INTERNATIONAL TRADE COMMISSION

[Investigation No. 332-569]

U.S. SME Exports: Trade-Related Barriers Affecting Exports of U.S. Small- and Medium-Sized Enterprises to the United Kingdom; Institution of Investigation and Scheduling of Hearing

AGENCY: United States International Trade Commission.

ACTION: Institution of investigation and scheduling of public hearing.

SUMMARY: Following receipt of a request from the U.S. Trade Representative (USTR) on August 3, 2018, under section 332(g) of the Tariff Act of 1930, the U.S. International Trade Commission has instituted investigation No. 332-569, U.S. SME Exports: Trade-Related Barriers Affecting Exports of U.S. Small and Medium-Sized Enterprises to the United Kingdom, for the purpose of providing a report that catalogs trade-related barriers that small and medium-sized enterprises (SMEs) perceive as disproportionately affecting U.S. SMEs exporting to the United Kingdom (UK), compared to larger U.S. exporters to the UK.

DATES:

February 8, 2019: Deadline for filing requests to appear at the public hearing

February 13, 2019: Deadline for filing prehearing briefs and statements

February 26, 2019: Public hearing

March 8, 2019: Deadline for filing posthearing briefs

March 15, 2019: Deadline for filing all other written submissions

July 31, 2019: Transmittal of Commission report to the USTR

ADDRESSES: All Commission offices, including the Commission's hearing rooms, are located in the United States International Trade Commission Building, 500 E Street SW, Washington, DC. All written submissions should be addressed to the Secretary, United States International Trade Commission, 500 E Street SW, Washington, DC 20436. The public record for this investigation may be viewed on the Commission's electronic docket (EDIS) at https://edis.usitc.gov/edis3-internal/app.

FOR FURTHER INFORMATION CONTACT: Project Leader Mahnaz Khan (202-205-2046 or mahnaz.khan@usitc.gov) or Deputy Project Leader Sarah Scott (202-708-1397 or sarah.scott@usitc.gov) for information specific to this investigation. For information on the legal aspects of this investigation, contact Katherine Linton (202-205-3393 or katherine.linton@usitc.gov) or William Gearhart of the Commission's Office of the General Counsel (202-205-3091 or william.gearhart@usitc.gov). The media should contact Margaret O'Laughlin, Office of External Relations (202-205-1819 or margaret.olaughlin@usitc.gov). Hearing-impaired individuals may obtain information on this matter by contacting the Commission's TDD terminal at 202-205-1810. General information concerning the Commission may also be obtained by accessing its website (http://www.usitc.gov). Persons with mobility impairments who will need special assistance in gaining access to the Commission should contact the Office of the Secretary at 202-205-2002.

SUPPLEMENTARY INFORMATION:

Background: As requested by the USTR, the Commission will conduct an investigation and prepare a report that catalogs trade-related barriers that SMEs perceive as disproportionately affecting U.S. SMEs exporting to the UK, compared to larger U.S. exporters to the UK. In identifying these barriers to exporting, the USTR indicated in his letter that the Commission may consider information and definitions contained in the three Commission reports on SMEs released in 2010, the Commission report on Trade Barriers that U.S. Small- and Medium-sized Enterprises Perceive as Affecting Exports to the European Union released in 2014, any relevant literature, and information gathered from SMEs and others throughout the investigation. The letter also said that the report should cover barriers faced by U.S. SMEs exporting manufactured products, agricultural goods, and services, focusing primarily on barriers identified by U.S. SMEs that have experience in exporting to the UK either directly or through supply chains. The letter said that the investigation, to the degree practicable, should identify barriers by economic sector and should focus on sectors with high concentrations of SMEs.

In addition, USTR asked that the Commission base its report on available information, including information furnished by SMEs and interested parties following the Commission's notice of investigation. The USTR said that the Commission, to the extent applicable, should provide qualitative distinctions among the identified trade-related barriers. Additionally, the letter said that the report may include suggestions gathered from SMEs or the relevant literature for actions that would help address some of the identified barriers and enhance the participation of U.S. SMEs in U.S.-UK trade. As requested, the Commission expects to transmit its report to the USTR by July 31, 2019.

Public Hearing: A public hearing in connection with this investigation will be held at the U.S. International Trade Commission Building, 500 E Street SW, Washington, DC, beginning at 9:30 a.m. on February 26, 2019. Requests to appear at the public hearing should be filed with the Secretary, no later than 5:15 p.m., February 8, 2019, in accordance with the requirements in the “Submissions” section below. All pre-hearing briefs and statements should be filed no later than 5:15 p.m., February 13, 2019; and all post-hearing briefs should be filed no later than 5:15 p.m., March 8, 2019 and all other statements responding to matters raised at the hearing should be filed no later than 5:15 p.m., March 15, 2019. In the event that, as of the close of business on February 8, 2019, no witnesses are scheduled to appear at the hearing, the hearing will be canceled. Any person interested in attending the hearing as an observer or nonparticipant should contact the Office of the Secretary at 202-205-2000 after February 8, 2019, for information concerning whether the hearing will be held.

Written Submissions: In lieu of or in addition to participating in the hearing, the Commission invites interested parties to submit written statements concerning this investigation. All written submissions should be addressed to the Secretary, and should be received no later than 5:15 p.m., March 15, 2019. All written submissions must conform with the provisions of section 201.8 of the Commission's Rules of Practice and Procedure (19 CFR 201.8). Section 201.8 and the Commission's Handbook on Filing Procedures require that interested parties file documents electronically on or before the filing deadline and submit eight (8) true paper copies by 12:00 p.m. Eastern Time on the next business day. In the event that confidential treatment of a document is requested, interested parties must file, at the same time as the eight paper copies, at least four (4) additional true paper copies in which the confidential information must be deleted (see the following paragraph for further information regarding confidential business information or “CBI”). Persons with questions regarding electronic filing should contact the Office of the Secretary, Docket Services Division (202-205-1802).

Confidential Business Information (CBI): Any submissions that contain CBI must also conform to the requirements of section 201.6 of the Commission's Rules of Practice and Procedure (19 CFR 201.6). Section 201.6 of the rules requires that the cover of the document and the individual pages be clearly marked as to whether they are the “confidential” or “non-confidential” version, and that the CBI is clearly identified using brackets. All written submissions, except for those containing CBI, will be made available for inspection by interested parties.

In his request letter, the USTR stated that his office intends to make the Commission's report available to the public in its entirety, and asked that the Commission not include any CBI or national security classified information in the report that it delivers to the USTR. All information, including CBI, submitted in this investigation may be disclosed to and used (i) by the Commission, its employees and Offices, and contract personnel (a) for developing or maintaining the records of this or a related proceeding, or (b) in internal investigations, audits, reviews, and evaluations relating to the programs, personnel, and operations of the Commission, including under 5 U.S.C. Appendix 3; or (ii) by U.S. government employees and contract personnel for cybersecurity purposes. The Commission will not otherwise disclose any CBI in a manner that would reveal the operations of the firm supplying the information.

Summaries of Written Submissions: The Commission intends to publish summaries of the written submissions filed by interested persons. Persons wishing to have a summary of their submission included in the report should include a summary with their written submission and should mark the summary as having been provided for that purpose. The summary may not exceed 500 words, should be in MSWord format or a format that can be easily converted to MSWord, and should not include any CBI. The summary will be published as provided if it meets these requirements and is germane to the subject matter of the investigation. The Commission will identify the name of the organization furnishing the summary and will include a link to the Commission's Electronic Document Information System (EDIS) where the full written submission can be found.

By order of the Commission.
Issued: August 30, 2018.
Katherine Hiner,
Supervisory Attorney.

[FR Doc. 2018-19279 Filed 9-5-18; 8:45 am]

BILLING CODE 7020-02-P